DEPARTMENT OF HEALTH AND HUMAN SERVICES

Centers for Medicare & Medicaid Services

[Document Identifiers: CMS-10003, CMS-10409, and CMS-10461]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Revision of a currently approved collection; Title of Information Collection: Notice of Denial of Medical Coverage (or Payment). Use: Form CMS-10003 is currently separated into a Notice of Denial of Medical Coverage (NDMC) and a Notice of Denial of Payment (NDP). The revised notice that is the subject of this PRA package combines the NDMC and the NDP notices and incorporates text to be inserted if the Medicare health plan enrollee receives full benefits under a State Medical Assistance (Medicaid) program being managed by the plan and the plan denies a service or item that is also subject to Medicaid appeal rights. Form Number: CMS-10003 (OCN: 0938-0829). Frequency: Occasionally; Affected Public: Private sector (business or other for-profit and not-for-profit institutions). Number of Respondents: 665. Total Annual Responses: 6,960,410. Total Annual Hours: 1,159,604. (For policy questions regarding this collection contact Kathryn McCann Smith at 410-786-7623. For all other issues call 410-786-1326.)

2. Type of Information Collection Request: Revision of a currently approved collection; Title of Information Collection: Long Term Care Hospital (LCTH) Continuity Assessment Record and Evaluation (CARE) Data Set; Use: Section 3004 of the Affordable Care Act authorizes the establishment of a new quality reporting program for long term care hospitals (LTCHs). The LTCHs that fail to submit quality measure data may be subject to a 2 percentage point reduction in their annual update to the standard Federal rate for discharges occurring during a rate year. In the FY 2013 IPPS/LTCH PPS final rule (76 FR 51743 through 51756), CMS retained three National Quality Forum (NQF) measures (NQF #0678, NQF #0138 and NQF #0139) and adopted two new measure (NQF #0680 and NQF#0431) for the FY 2016 payment determination. The NQF #0680 is the percent of residents or patients who were assessed and appropriately given the seasonal influenza vaccine (short-stay). The NQF #0431 is influenza vaccination coverage among healthcare personnel. The data collection for these two NQF endorsed measures will start January 1, 2014.

The LTCH CARE Data Set was developed specifically for use in LTCHs for data collection of NQF #0678 Pressure Ulcer measures beginning October 1, 2012, with the understanding that the data set would expand in future rulemaking years with the adoption of additional quality measures. Relevant data elements contained in other well-known and clinically established data sets, including but not limited to the Minimum Data Set 3.0 (MDS 3.0) and CARE, were incorporated into the LTCH CARE Data Set V1.01. Form Number: CMS-10409 (OCN: 0938-1163); Frequency: Occasionally; Affected Public: Private Sector: Business or other for-profit and not-for-profit institutions; Number of Respondents: 442; Total Annual Responses: 403,988; Total Annual Hours: 212,160. (For policy questions regarding this collection contact Charles Padgett at 410-786-2811. For all other issues call 410-786-1326.)

3. Type of Information Collection Request: New collection (request for a new OMB control number). Title of Information Collection: Emergency Department Patient Experience of Care Survey. Use: This survey supports the six national priorities for improving care from the National Quality Strategy developed by the U.S. Department of Health and Human Services (HHS) that was called for under the Affordable Care Act to create national aims and priorities to guide local, state, and national efforts to improve the quality of health care. The priorities support a three-part aim focusing on better care, better health, and lower costs through improvement. In this regard, this survey will provide patient experiences with care data that enables making comparisons of emergency departments across the nation and promoting effective communication and coordination. Form Number: CMS-10461 (OCN: 0938—New). Frequency: Once. Affected Public: Individuals and households. Number of Respondents: Total Annual Responses: 3,360. Total Annual Hours: 799. (For policy questions regarding this collection contact Sai Ma at 410-786-1479. For all other issues call 410-786-1326.)

To obtain copies of the supporting statement and any related forms for the proposed paperwork collections referenced above, access CMS Web site address at http://www.cms.hhs.gov/PaperworkReductionActof1995, or Email your request, including your address, phone number, OMB number, and CMS document identifier, to Paperwork@cms.hhs.gov, or call the Reports Clearance Office on (410) 786-1326.

To be assured consideration, comments and recommendations for the proposed information collections must be received by the OMB desk officer at the address below, no later than 5 p.m. on May 13, 2013. OMB, Office of Information and Regulatory Affairs, Attention: CMS Desk Officer, Fax Number: (202) 395-6974, Email: OIRA_submission@omb.eop.gov.

Dated: April 9, 2013.
Martique Jones,
Deputy Director, Regulations Development Group, Office of Strategic Operations and Regulatory Affairs.

[FR Doc. 2013-08677 Filed 4-11-13; 8:45 am]

BILLING CODE 4120-01-P